NATIONAL CREDIT UNION ADMINISTRATION

Agency Information Collection Activities: Submission to OMB for Reinstatement, With Change, of a Previously Approved Collection; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public and is not part of any new requirements or program changes. This information collection is related to credit unions that serve predominately low-income members and seek a low-income designation from NCUA so they may benefit from certain statutory relief and receive assistance from the Community Development Revolving Loan Fund.

DATES: Comments will be accepted until October 28, 2013.

ADDRESSES: Interested parties are invited to submit written comments to the NCUA Contact and the OMB Reviewer listed below:

NCUA Contact: Tracy Crews, National Credit Union Administration, 1775 Duke Street, Alexandria, Virginia 22314-3428, Fax No. 703-837-2861, Email: OCIOPRA@ncua.gov.

OMB Contact: Office of Management and Budget, ATTN: Desk Officer for the National Credit Union Administration, Office of Information and Regulatory Affairs, Washington, DC 20503.

FOR FURTHER INFORMATION CONTACT: Requests for additional information, a copy of the information collection request, or a copy of submitted comments should be directed to Tracy Crews at the NCUA, 1775 Duke Street, Alexandria, VA 22314-3428, or at (703) 518-6444. For additional information about low-income designations, contact Susan Ryan in the NCUA Office of Consumer Protection, Division of Consumer Access, at the above address, or at (703) 518-1140.

SUPPLEMENTARY INFORMATION:

I. Abstract and Request for Comments

NCUA is amending and reinstating the collection for 3133-0117. The collection of information requirement is for those credit unions seeking a low-income designation. A credit union's member address data are utilized for analysis in the NCUA Low-Income Designation (LID) Tool. The LID Tool is a geocoding software program which analyzes member address data. A credit union's member address data are obtained either through the NCUA examination file or a credit union sends the data as an electronic attachment to NCUA. If the member address data are obtained through the examination process and the results of the LID Tool indicate the credit union serves predominantly low-income members, the credit union is notified it is eligible for the low-income designation. The credit union then must contact NCUA to opt for the designation. If the credit union wishes to have its data reviewed other than through the examination process, it may send an electronic member address data file for analysis in the LID Tool.

If a credit union does not qualify for a low-income designation using the geocoding software LID Tool, it may submit a statistically valid sample of member income data as evidence it qualifies for the designation. Credit unions are permitted to draw this sample from loan files or a member survey.

The NCUA requests that you send your comments on this collection to the location listed in the addresses section. Your comments should address: (a) The necessity of the information collection for the proper performance of NCUA, including whether the information will have practical utility; (b) the accuracy of our estimate of the burden (hours and cost) of the collection of information, including the validity of the methodology and assumptions used; (c) ways we could enhance the quality, utility, and clarity of the information to be collected; and (d) ways we could minimize the burden of the collection of the information on the respondents such as through the use of automated collection techniques or other forms of information technology. It is NCUA's policy to make all comments available to the public for review.

II. Data

Title: Designation of Low-Income Status.

OMB Number: 3133-0117.

Form Number: None.

Type of Review: Reinstatement, with change, of a previously approved collection.

Description: Credit unions that obtain a low-income designation benefit from certain statutory relief, including: Accepting nonmember deposits from any source; offering secondary capital accounts; an exemption from the aggregate loan limit for member business loans; and being eligible to receive assistance from the Community Development Revolving Loan Fund.

Respondents: Certain credit unions serving predominantly low-income members.

Estimated Number of Respondents/Recordkeepers: 265 (260 credit unions requesting the designation utilizing the LID Tool, and 5 credit unions requesting the designation utilizing the sampling method).

Estimated Burden Hours per Response: 15 minutes for LID Tool; 40 hours for sampling method.

Frequency of Response: Once, on occasion, and recordkeeping.

Estimated Total Annual Burden Hours: 265 hours.

Estimated Total Annual Cost: $20,000.

By the National Credit Union Administration Board on September 20, 2013.
Gerard Poliquin,
Secretary of the Board.

[FR Doc. 2013-23478 Filed 9-25-13; 8:45 am]

BILLING CODE 7535-01-P